DEPARTMENT OF TRANSPORTATION

Federal Aviation Administration

14 CFR Part 39

[Docket No. FAA-2020-0464; Product Identifier 2020-NM-040-AD; Amendment 39-21307; AD 2020-22-11]

RIN 2120-AA64

Airworthiness Directives; Airbus SAS Airplanes

AGENCY: Federal Aviation Administration (FAA), Department of Transportation (DOT).

ACTION: Final rule.

SUMMARY: The FAA is superseding Airworthiness Directive (AD) 2017-18-17, which applied to all Airbus SAS Model A300 B4-603, A300 B4-620, A300 B4-622, A300 B4-605R, A300 B4-622R, A300 F4-605R, A300 F4-622R, and A300 C4-605R Variant F airplanes. AD 2017-18-17 required modifying certain fuselage frames and a repair on certain modified airplanes. This AD continues to require the actions in AD 2017-18-17, and also requires, for certain airplanes, an inspection to determine if rotating probe inspections were performed prior to oversizing of the open-holes, and repair if necessary; as specified in a European Union Aviation Safety Agency (EASA) AD, which is incorporated by reference. This AD was prompted by a report indicating that the material used to manufacture the upper frame feet was changed and negatively affected the fatigue life of the frame feet, and a determination that more work is required for certain airplanes that were previously modified. The FAA is issuing this AD to address the unsafe condition on these products.

DATES: This AD is effective December 14, 2020.

The Director of the Federal Register approved the incorporation by reference of a certain publication listed in this AD as of December 14, 2020.

ADDRESSES: For the material incorporated by reference (IBR) in this AD, contact the EASA, Konrad-Adenauer-Ufer 3, 50668 Cologne, Germany; phone: +49 221 8999 000; email: ADs@easa.europa.eu; internet: www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0464.

Examining the AD Docket

You may examine the AD docket on the internet at https://www.regulations.gov by searching for and locating Docket No. FAA-2020-0464; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; phone and fax: 206-231-3225; email: dan.rodina@faa.gov.

SUPPLEMENTARY INFORMATION:

Discussion

The EASA, which is the Technical Agent for the Member States of the European Union, has issued EASA AD 2020-0051, dated March 11, 2020 (“EASA AD 2020-0051”) (also referred to as the Mandatory Continuing Airworthiness Information, or “the MCAI”), to correct an unsafe condition for all Airbus SAS Model A300 B4-603, A300 B4-620, A300 B4-622, A300 B4-605R, A300 B4-622R, A300 F4-605R, A300 F4-622R, A300 C4-620, and A300 C4-605R Variant F airplanes. Model A300 C4-620 airplanes are not certificated by the FAA and are not included on the U.S. type certificate data sheet; this AD therefore does not include those airplanes in the applicability.

The FAA issued a notice of proposed rulemaking (NPRM) to amend 14 CFR part 39 to supersede AD 2017-18-17, Amendment 39-19026 (82 FR 43160, September 14, 2017) (“AD 2017-18-17”). AD 2017-18-17 applied to all Airbus SAS Model A300 B4-603, A300 B4-620, A300 B4-622, A300 B4-605R, A300 B4-622R, A300 F4-605R, A300 F4-622R, and A300 C4-605R Variant F airplanes. The NPRM published in the Federal Register on June 8, 2020 (85 FR 35016). The NPRM was prompted by a report indicating that the material used to manufacture the upper frame feet was changed and negatively affected the fatigue life of the frame feet, and a determination that more work is required for certain airplanes that were previously modified. The NPRM proposed to continue to require the actions in AD 2017-18-17, as specified in an EASA AD. The NPRM also proposed to require, for certain airplanes, an inspection to determine if rotating probe inspections were performed prior to oversizing of the open-holes, and repair if necessary, as specified in an EASA AD.

The FAA is issuing this AD to address cracking of the center section of the fuselage, which could result in a ruptured frame foot and reduced structural integrity of the airplane. See the MCAI for additional background information.

Comments

The FAA gave the public the opportunity to participate in developing this final rule. The following presents the comment received on the NPRM and the FAA's response to each comment.

Request for Credit for Using Previous Service Information

FedEx requested that the FAA provide credit for accomplishing the required actions using Airbus SAS Service Bulletin A300-53-6178, dated March 17, 2015, provided the appropriate rotating probe inspection is performed before oversizing the open holes. FedEx stated that its fleet is already in compliance with the required actions but used Airbus Service Bulletin A300-53-6178, dated March 17, 2015, not the current revision Airbus Service Bulletin A300-53-6178, Revision 01, dated September 20, 2019.

The FAA disagrees with the request. This AD incorporated by reference EASA AD 2020-0051 as the appropriate material to use to comply with this AD. Paragraph (3) of EASA AD 2020-0051 specifies that, for airplanes on which the modification specified in Airbus Service Bulletin A300-53-6178, dated March 17, 2015, was accomplished, additional work must be done. That additional work consists of determining whether or not a rotating probe inspection was performed before oversizing of the open-holes and, depending on findings, additional corrective actions. Therefore, the credit the commenter requested is already included in the requirements of this AD. The FAA has not revised this AD in this regard.

Conclusion

The FAA reviewed the relevant data, considered the comment received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2020-0051 describes procedures for modifying certain fuselage frames; a repair on certain modified airplanes; and, for certain airplanes, an inspection to determine if a rotating probe inspection was performed prior to oversizing of the open-holes, contacting the manufacturer for post-modification work instructions, and repair. This material is reasonably available because the interested parties have access to it through their normal course of business or by the means identified in the ADDRESSES section.

Costs of Compliance

The FAA estimates that this AD affects 65 airplanes of U.S. registry. The FAA estimates the following costs to comply with this AD:

Estimated Costs for Required Actions
Action | Labor cost | Parts cost | Cost per product | Cost on U.S. operators
Retained actions from AD 2017-18-17 | Up to 235 work-hours × $85 per hour = Up to $19,975 | $23,000 | Up to $42,975 | Up to $2,793,375.
New actions | 1 work-hour × $85 per hour = $85 | 0 | $85 | $5,525

The FAA has received no definitive data that would enable providing cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-18-17, Amendment 39-19026 (82 FR 43160, September 14, 2017), and

b. Adding the following new AD:

2020-22-11 Airbus SAS: Amendment 39-21307; Docket No. FAA-2020-0464; Product Identifier 2020-NM-040-AD.

(a) Effective Date

This AD is effective December 14, 2020.

(b) Affected ADs

This AD replaces AD 2017-18-17, Amendment 39-19026 (82 FR 43160, September 14, 2017) (“AD 2017-18-17”).

(c) Applicability

This AD applies to all Airbus SAS Model A300 B4-603, A300 B4-620, A300 B4-622, A300 B4-605R, A300 B4-622R, A300 F4-605R, A300 F4-622R, and A300 C4-605R Variant F airplanes, certificated in any category.

(d) Subject

Air Transport Association (ATA) of America Code 53, Fuselage.

(e) Reason

This AD was prompted by a report indicating that the material used to manufacture the upper frame feet was changed and negatively affected the fatigue life of the frame feet, and a determination that more work is required for certain airplanes that were previously modified. The FAA is issuing this AD to address cracking of the center section of the fuselage, which could result in a ruptured frame foot and reduced structural integrity of the airplane.

(f) Compliance

Comply with this AD within the compliance times specified, unless already done.

(g) Requirements

Except as specified in paragraph (h) of this AD: Comply with all required actions and compliance times specified in, and in accordance with, European Union Aviation Safety Agency (EASA) AD 2020-0051, dated March 11, 2020 (“EASA AD 2020-0051”).

(h) Exceptions to EASA AD 2020-0051

(1) Where EASA AD 2020-0051 refers to its effective date, this AD requires using the effective date of this AD.

(2) The “Remarks” section of EASA AD 2020-0051 does not apply to this AD.

(3) For airplanes on which the modification specified in Airbus Service Bulletin A300-53-6178 has been done: Where paragraph (4) of EASA AD 2020-0051 specifies to do certain actions “no later than 6 months (estimated by projection of airplane usage) prior to exceeding 24,500 flight cycles or 42,700 flight hours, whichever occurs first, after Airbus Service Bulletin A300-53-6178 embodiment (at any revision),” this AD requires doing those actions prior to exceeding 24,100 total flight cycles or 42,000 total flight hours, whichever occurs first after doing the modification.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0051 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Dan Rodina, Aerospace Engineer, Large Aircraft Section, International Validation Branch, FAA, 2200 South 216th St., Des Moines, WA 98198; phone and fax: 206-231-3225; email: dan.rodina@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0051, dated March 11, 2020.

(ii) [Reserved]

(3) For EASA AD 2020-0051, contact the EASA, Konrad-Adenauer-Ufer 3, 50668 Cologne, Germany; phone: +49 221 8999 000; email: ADs@easa.europa.eu; internet: www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0464.

(5) You may view this material that is incorporated by reference at the National Archives and Records Administration (NARA). For information on the availability of this material at NARA, email fedreg.legal@nara.gov, or go to: https://www.archives.gov/federal-register/cfr/ibr-locations.html.

Issued on October 19, 2020.
Lance T. Gant,
Director, Compliance & Airworthiness Division, Aircraft Certification Service.

[FR Doc. 2020-24641 Filed 11-6-20; 8:45 am]

BILLING CODE 4910-13-P